DEPARTMENT OF TRANSPORTATION

Surface Transportation Board

[STB Finance Docket No. 33900]

Norfolk Southern Railway Co.—Trackage Rights Exemption—Ohio Southern Railroad, Incorporated in Perry County, OH

Ohio Southern Railroad, Incorporated (OSRR) has agreed to grant overhead trackage rights to Norfolk Southern Railway Company (NS) over OSRR's mainline of railroad between the division of control/ownership between OSRR and the Pennsylvania Lines LLC (PRR) line of railroad operated by NS, (1) between milepost RQ-36.0 at Wilbren, and the south wye connection, milepost RQ-38.1, at New Lexington, OH, known as the Rosevillle Industrial Track, and (2) the above-mentioned milepost RQ-38.1 and milepost RR-47.3 of PRR's line knows as the West Virginia Secondary, a total distance of approximately 2.3 miles.

NS states that the transaction is related to and will be effective on the consummation of OSRR's acquisition of the line pursuant to its notice of exemption filed June 30, 2000, in STB Finance Docket No. 33895, Ohio Southern Railroad, Incorporated—Acquisition and Operation Exemption—Pennsylvania Lines LLC and Norfolk Southern Railway Company.

The purpose of this trackage rights is to permit NS to continue operations over the line recently subleased by NS and PRR to OSRR and to facilitate the development of a more efficient routing for both OSRR and NS. See STB Finance Docket No. 33895.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 33900, must be filed with the Surface Transportation Board, Office of the Secretary, Case Control Unit, 1925 K Street, N.W., Washington, DC 20423-0001. In addition, one copy of each pleading must be served on John V. Edwards, Norfolk Southern Railway Corporation, Three Commercial Place, Norfolk, VA 23510-2191.

Board decisions and notices are available on our website at “WWW.STB.DOT.GOV.”

Decided: July 11, 2000.
By the Board, Joseph H. Dettmar, Acting Director, Office of Proceedings.
Vernon A. Williams,
Secretary.

[FR Doc. 00-18047 Filed 7-17-00; 8:45 am]

BILLING CODE 4915-00-P